DEPARTMENT OF HEALTH AND HUMAN SERVICES

National Institutes of Health

Government-Owned Inventions; Availability for Licensing

AGENCY: National Institutes of Health, Public Health Service, HHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of any U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Constructs for Measuring Activated Arf5 in Cells

Description of Technology: Scientists at the National Institutes of Health have developed a series of fusion protein constructs that can quantify the levels of activated Arf5 in cells. Arf5 is a member of the Arf family of GTP binding proteins and is an important regulator of intracellular trafficking and actin-mediated cell motility. Arf family members have been implicated to play a role in the spread of cancer (metastasis) and in the movement of cancer cells into healthy tissues (invasion). The constructs are DNA sequences of various portions of the carboxyl-terminal end of the Rab11-family interacting protein 3 (FIP3) expressed in the pGEX2T vector.

Application: Research tool to detect and quantify activated Arf5 in various laboratory procedures to analyze intracellular trafficking and cellular motility.

Advantages: To the best of our knowledge, this technology represents the first reported assay for the detection of activated Arf5.

Inventors: Paul A. Randazzo and Vi L. Ha (NCI).

Publications:

1. H Inoue et al. Arf GTPase-activating protein ASAP1 interacts with Rab11 effector FIP3 and regulates pericentrosomal localization of transferrin receptor-positive recycling endosome. Mol Biol Cell. 2008 Oct;19(10):4224-4237.

2. HY Yoon et al. In vitro assays of Arf1 interaction with GGA proteins. Methods Enzymol. 2005;404:316-332.

Patent Status: HHS Reference No. E-064-2009/0—Research Tool. Patent protection is not being pursued for this technology.

Related Technologies: Antibodies and Antisera Recognizing Members of the ArfGap Family of Proteins:

• HHS Reference No. E-220-2008/0—Research Tool.

• HHS Reference No. E-220-2008/1—Research Tool.

• HHS Reference No. E-220-2008/2—Research Tool.

• HHS Reference No. E-221-2008/0—Research Tool.

• HHS Reference No. E-221-2008/1—Research Tool.

• HHS Reference No. E-221-2008/2—Research Tool.

• HHS Reference No. E-222-2008/0—Research Tool.

• HHS Reference No. E-242-2008/0—Research Tool.

• HHS Reference No. E-243-2008/0—Research Tool.

• HHS Reference No. E-244-2008/0—Research Tool.

• HHS Reference No. E-245-2008/0—Research Tool.

• HHS Reference No. E-245-2008/1—Research Tool.

• HHS Reference No. E-252-2008/0—Research Tool.

Licensing Status: Available for licensing under a Biological Materials License Agreement.

Licensing Contact: Samuel E. Bish, PhD; 301-435-5282; bishse@mail.nih.gov.

Mouse Monoclonal Antibodies to MAD1, a Human Spindle Assembly Checkpoint Protein for Maintaining Chromosomal Segregation

Description of Technology: Scientists at the National Institutes of Health have developed mouse monoclonal antibodies against the human spindle assembly checkpoint protein, MAD1. The spindle assembly checkpoint in mitotic cell division regulates the fidelity of chromosome segregation during cell division. MAD1 is an important component of this checkpoint control, which if compromised, can lead to the initiation of cancer cell growth. These monoclonal antibodies are the first available antibodies against MAD1 and can be used in laboratory research and diagnostics.

Applications:

• Research tool in various laboratory procedures to identify and detect MAD1.

• Diagnostic tool for aneuploidy, the condition of having an abnormal number of chromosomes, which results in birth and developmental defects, such as Down syndrome.

Inventor: Kuan-Teh Jeang (NIAID).

Publication: K Haller et al. The N-terminus of rodent and human MAD1 confers species-specific stringency to spindle assembly checkpoint. Oncogene 2006 Apr 6;25(15):2137-2147.

Patent Status: HHS Reference No. E-119-2003/0—Research Tool. Patent protection is not being pursued for this technology.

Licensing Status: Available for licensing under a Biological Materials License Agreement.

Licensing Contact: Samuel E. Bish, PhD; 301-435-5282; bishse@mail.nih.gov.

Collaborative Research Opportunity: The NIAID Office of Technology Development is seeking statements of capability or interest from parties interested in collaborative research to further develop, evaluate, or commercialize reagents for studying cell cycle checkpoint factors. Please contact Agnes Rooke at rookeab@niaid.nih.gov or by phone at 301-594-1697 for more information.

Dated: January 30, 2009.
Richard U. Rodriguez,
Director, Division of Technology Development and Transfer, Office of Technology Transfer, National Institutes of Health.

[FR Doc. E9-2821 Filed 2-10-09; 8:45 am]

BILLING CODE 4140-01-P